DEPARTMENT OF HEALTH AND HUMAN SERVICES

Administration for Children and Families

[OMB No. 0970-0320]

Submission for OMB Review; Tribal Child Support Enforcement Annual Data Report

AGENCY: Office of Child Support Enforcement, Administration for Children and Families, HHS.

ACTION: Request for public comment.

SUMMARY: The Office of Child Support Enforcement (OCSE), Administration for Children and Families (ACF), U.S. Department of Health and Human Services (HHS), is requesting a 3-year extension of the form OCSE-75—Tribal Child Support Enforcement Annual Data Report (OMB #0970-0320, expiration 01/31/2023). There are changes requested to the form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: The data collected by form OCSE-75 are used to prepare the OCSE preliminary and annual data reports. In addition, tribes administering child support enforcement programs under Title IV-D of the Social Security Act are required to report program status and accomplishments in an annual narrative report as part of the OCSE-75 report and submit it annually. Changes made to the report were agreed to based on several workgroup meetings attended by both OCSE and tribal child support directors. These changes include clarifying data points and definitions.

Respondents: Tribal Child Support Enforcement Organizations or the Department/Agency/Bureau responsible for child support enforcement in each tribe.

Annual Burden Estimates: Due to the timing required to make system updates to incorporate proposed changes, the current form will be used for fiscal year (FY) 2022 reporting, and the revised form will be implemented beginning FY 2023 reporting.

Instrument | Total number of respondents | Total number of responses per respondent (over 3 years) | Average burden hours per response | Total burden hours | Annual burden hours
OCSE-75 for FY 2022 | 60 | 1 | 40 | 2,400 | 2,400
OCSE-75 for FY 2023 and forward | 61 | 2 | 40 | 4,880 | 2,440

Average Annual Burden Hours: 2,427.

Authority: Title IV-D of the Social Security Act as required by 45 CFR 309.170(b).

Mary B. Jones,
ACF/OPRE Certifying Officer.

[FR Doc. 2022-04372 Filed 3-1-22; 8:45 am]

BILLING CODE 4184-41-P